DEPARTMENT OF ENERGY

Federal Energy Regulatory Commission

Combined Notice of Filings

Take notice that the Commission has received the following Natural Gas Pipeline Rate and Refund Report filings:

Filings Instituting Proceedings

Docket Numbers: RP10-996-000.

Applicants: Dominion Cove Point LNG, LP.

Description: Dominion Energy Cove Point LNG, LP submits tariff filing per: DECP—2017 Report of Operational Sales and Purchases of Gas.

Filed Date: 07/31/2017.

Accession Number: 20170731-5099.

Comment Date: 5:00 p.m. Eastern Time on Monday, August 14, 2017.

Docket Numbers: RP17-961-000.

Applicants: Transcontinental Gas Pipe Line Company.

Description: Transcontinental Gas Pipe Line Company, LLC submits tariff filing per 154.204: Update List of Non-Conforming Service Agreements (Dalton) to be effective 8/1/2017.

Filed Date: 08/03/2017.

Accession Number: 20170803-5115.

Comment Date: 5:00 p.m. Eastern Time on Tuesday, August 15, 2017.

Docket Numbers: RP17-962-000.

Applicants: Cameron Interstate Pipeline, LLC.

Description: Cameron Interstate Pipeline, LLC submits tariff filing per 154.204: Filing of Tenaska Capacity Release Umbrella Agreement to be effective 8/1/2017.

Filed Date: 08/03/2017.

Accession Number: 20170803-5156.

Comment Date: 5:00 p.m. Eastern Time on Tuesday, August 15, 2017.

Docket Numbers: RP17-920-001.

Applicants: Gulf South Pipeline Company, LP.

Description: Gulf South Pipeline Company, LP submits tariff filing per 154.205(b): Amendment to Filing in Docket No. RP17-920-000 to be effective 8/1/2017.

Filed Date: 08/04/2017.

Accession Number: 20170804-5077.

Comment Date: 5:00 p.m. Eastern Time on Wednesday, August 16, 2017.

Docket Numbers: RP17-963-000.

Applicants: NJR Energy Services Company, Talen Energy Marketing, LLC.

Description: Joint Petition for Temporary Waiver of Capacity Release of NJR Energy Services Company, et al.

Filed Date: 08/04/2017.

Accession Number: 20170804-5088.

Comment Date: 5:00 p.m. Eastern Time on Friday, August 11, 2017.

Docket Numbers: RP17-964-000.

Applicants: Texas Eastern Transmission, LP.

Description: Joint Settlement Extension Agreement (Phase II/PCBs, RP88-67, et. al.) of Texas Eastern Transmission, LP.

Filed Date: 08/04/2017.

Accession Number: 20170804-5166.

Comment Date: 5:00 p.m. Eastern Time on Wednesday, August 16, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated August 7, 2017.
Nathaniel J. Davis, Sr.
Deputy Secretary

[FR Doc. 2017-17093 Filed 8-11-17; 8:45 am]

BILLING CODE 6717-01-P